DEPARTMENT OF COMMERCE

Bureau of the Census

Census Advisory Committee of Professional Associations

AGENCY: Bureau of the Census, Department of Commerce.

ACTION: Notice of public meeting.

SUMMARY: The Bureau of the Census (U.S. Census Bureau) is giving notice of a meeting of the Census Advisory Committee of Professional Associations. The Committee will address policy, research, and technical issues related to 2010 Decennial Census programs, including the American Community Survey (ACS). The Committee will also discuss several economic initiatives, demographic program topics, as well as issues pertaining to 2010 communications. Last-minute changes to the agenda are possible, which could prevent giving advance public notice of schedule adjustments.

DATES: October 26-27, 2006. On October 26, the meeting will begin at approximately 9 a.m. and adjourn at approximately 5 p.m. On October 27, the meeting will begin at approximately 9 a.m. and adjourn at approximately 12:15 p.m.

ADDRESSES: The meeting will be held at the U.S. Census Bureau, 4700 Silver Hill Road, Suitland, Maryland 20746.

FOR FURTHER INFORMATION CONTACT: Jeri Green, Committee Liaison Officer, Department of Commerce, U.S. Census Bureau, Room 3627, Federal Building 3, Washington, DC 20233. Her telephone number is 301-763-2070, TDD 301-457-2540.

SUPPLEMENTARY INFORMATION: The Census Advisory Committee of Professional Associations is composed of 36 members, appointed by the presidents of the American Economic Association, the American Statistical Association, and the Population Association of America, and the Chairperson of the Board of the American Marketing Association. The Committee addresses Census Bureau programs and activities related to each respective Association's area of expertise. The Committee has been established in accordance with the Federal Advisory Committee Act (Title 5, United States Code, Appendix 2, Section 10(a)(b)).

The meeting is open to the public, and a brief period is set aside for public comment and questions. Persons with extensive questions or statements must submit them in writing at least three days before the meeting to the Committee Liaison Officer named above. Seating is available to the public on a first-come, first-served basis.

This meeting is physically accessible to people with disabilities. Requests for sign language interpretation or other auxiliary aids should also be directed to the Committee Liaison Officer.

Dated: September 11, 2006.
Charles Louis Kincannon,
Director, Bureau of the Census.

[FR Doc. E6-15456 Filed 9-15-06; 8:45 am]

BILLING CODE 3510-07-P